DEPARTMENT OF ENERGY

Federal Energy Regulatory Commission

[Docket No. PF05-10-000]

Northern Star Natural Gas LLC; Notice of an Informational Meeting for the Proposed Northern Star LNG Project

October 12, 2005.

The staff of the Federal Energy Regulatory Commission (FERC or Commission) is issuing this notice to announce the date, time, and location of an informational meeting for Northern Star's Bradwood Landing liquefied natural gas (LNG) Project proposed for Clatsop and Columbia Counties, Oregon, and Cowlitz County, Washington. The purpose of this meeting is for staff to conduct an informational workshop to explain the public's role in the FERC's Pre-filing environmental review process. The meeting will take place on Wednesday, October 26, 2005, starting at 7 p.m. (p.s.t) (ending by 10 p.m.), at the multipurpose room, Julius A. Wendt Elementary School, 265 S. 3rd St., Cathlamet, Washington 98612; (telephone number: (360) 795-3261).

This event is posted on the Commission's calendar located at http://www.ferc.gov/EventCalendar/EventsList.aspx along with other related information. For additional information, please contact the Commission's Office of External Affairs at (202) 502-8004.

Magalie R. Salas,
Secretary.

[FR Doc. E5-5764 Filed 10-18-05; 8:45 am]

BILLING CODE 6717-01-P